DEPARTMENT OF COMMERCE

Economic Development Administration

Notice of Petitions by Firms for Determination of Eligibility to Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility to Apply for Trade Adjustment Assistance for the Period February 14, 2006 Through March 13, 2006
Firm | Address | Date petition accepted | Product
Saxonburg Ceramics, Inc. | 100 N. Isabella Street, Saxonburg, PA 16056 | 2/14/06 | Ceramic insulating materials.
General Tool Specialties, Inc. | 284 Sunnymeade Road, Hillsborough, NJ 08844 | 3/1/06 | Plastic injection molds.
Wasley Products, Inc. | 87 Spring Lane, Plainville, CT 06062 | 3/1/06 | Custom rubber products and custom plastic injection molded products.
Peninsula Plastics Company, Inc. | 2800 Auburn Court, Auburn Hills, MI 48326 | 3/1/06 | Cases, crates and pallets of thermoformed plastic.
Technical Die Casting, Inc | Box 349 Highway 14 West, Stockton, MN 55988 | 3/8/06 | Aluminum and zinc cast hydraulic or pneumatic motion control valves, gas valves and electric brackets and housings.
Newtex Industries, Inc. | 8050 Victor Mendon Road, Victor, New York 14564 | 3/8/06 | High temperature fiberglass textiles products.
Sun Company, Inc. | 14025 W. 66th Avenue, Jefferson, CO 80004 | 3/13/06 | Navigational instruments, measurement instruments, levels and promotional products.
Little Homer, Inc. dba Miss Lori Ann | 1318 Perryman, Palacios, TX 77465 | 3/13/06 | Shrimp.

The following firm was inadvertently omitted from 71 FR 3259, 1/20/06.

Firm | Address | Date petition accepted | Product
Lakewood Engineering and Manufacturing Co., Inc | 501 North Sacramento Boulevard, Chicago, IL 60612 | 1/5/06 | Portable electric fans and heaters.

Any party having a substantial interest in these proceedings may request a public hearing on the matter. A written request for a hearing must be submitted to the Office of Chief Counsel, Room 7005, Economic Development Administration, U.S. Department of Commerce, Washington, DC 20230, no later than ten (10) calendar days following publication of this notice. Please follow the procedures set forth in Section 315.9 of EDA's interim final rule (70 FR 47002) for procedures for requesting a public hearing. The Catalog of Federal Domestic Assistance official program number and title of the program under which these petitions are submitted is 11.313, Trade Adjustment Assistance.

Dated: March 15, 2006.
Barry Bird,
Chief Counsel.

[FR Doc. E6-4122 Filed 3-21-06; 8:45 am]

BILLING CODE 3510-24-P